DEPARTMENT OF THE TREASURY

United States Mint

Notification of United States Mint Silver Eagle Bullion Coin Premium Increase

ACTION: Notification of United States Mint Silver Eagle Bullion Coin Premium Increase.

SUMMARY: The United States Mint is increasing the premium charged to Authorized Purchasers for American Eagle Silver Bullion Coins, a program authorized under 31 U.S.C. 5112(e).

The United States Mint will increase the premium charged to Authorized Purchasers for American Eagle Silver Bullion Coins, from $1.50 to $2.00 per coin, for all orders accepted on or after October 1, 2010.

FOR FURTHER INFORMATION CONTACT: B. B. Craig, Associate Director for Sales and Marketing; United States Mint; 801 9th Street, NW., Washington, DC 20220; or call 202-354-7500.

Authority: 31 U.S.C. 5112(e)-(f) & 9701.

Dated: October 4, 2010.
Andrew D. Brunhart,
Deputy Director, United States Mint.

[FR Doc. 2010-25310 Filed 10-6-10; 8:45 am]

BILLING CODE 4810-02-P